NATIONAL TRANSPORTATION SAFETY BOARD

Sunshine Act Meeting

Time and Place: 9:30 a.m., Tuesday, June 12, 2001.

Place: NTSB Conference Center, 429 L'Enfant Plaza SW., Washington, DC 20594.

Status: The one item is open to the public.

Matter to be considered: 7366 Pipeline Accident Report—Natural Gas Explosion and Fire in South Riding, Virginia, July 7, 1998 (CDA-98-MP-003).

News Media Contact: Telephone: (202) 314-6100. Individuals requesting specific accommodation should contact Ms. Carolyn Dargan at (202) 314-6305 by Friday, June 8, 2001.

FOR MORE INFORMATION CONTACT: Vicky D'Onofrio, (202) 314-6410.

Dated: June 1, 2001.
Vicky D'Onofrio,
Federal Register Liaison Officer.

[FR Doc. 01-14237 Filed 6-1-01 12:55 am]

BILLING CODE 7533-01-M